DEPARTMENT OF THE INTERIOR

Fish and Wildlife Service

[FWS-R1-ES-2023-N077; FXES11130100000C4-234-FF01E00000]

Endangered and Threatened Wildlife and Plants; Initiation of 5-Year Status Reviews for 133 Species in Oregon, Washington, Idaho, Montana, California, Nevada, Hawaii, Guam, and the Commonwealth of the Northern Mariana Islands

AGENCY: Fish and Wildlife Service, Interior.

ACTION: Notice of initiation of reviews; request for information.

SUMMARY: We, the U.S. Fish and Wildlife Service, are initiating 5-year status reviews for 133 species in Oregon, Washington, Idaho, Montana, California, Nevada, Hawaii, Guam, and the Commonwealth of the Northern Mariana Islands under the Endangered Species Act of 1973. Two of these species also occur outside of United States jurisdiction in Canada and Palau. A 5-year status review is based on the best scientific and commercial data available at the time of the review; therefore, we are requesting submission of any new information on these species that has become available since the last reviews.

DATES: To ensure consideration in our reviews, we are requesting submission of new information no later than May 22, 2023. However, we will continue to accept new information about any species at any time.

ADDRESSES: Submitting Information on Species:

• Columbia Basin pygmy rabbit:

➢U.S. mail: State Supervisor, Attention: 5-Year Review, U.S. Fish and Wildlife Service, Washington Fish and Wildlife Office, 510 Desmond Dr. Southeast, Suite 102, Lacey, WA 98503; or

➢ Email: WFWO_LR@fws.gov.

• Any of the seven species occurring in Oregon:

➢ U.S. mail: State Supervisor, Attention: 5-Year Review, U.S. Fish and Wildlife Service, Oregon Fish and Wildlife Office, 2600 SE 98th Ave., Suite 100, Portland, OR 97266; or

➢ Email: fw1ofwo@fws.gov.

• White sturgeon, Banbury Springs limpet, and Bliss Rapids snail:

➢ U.S. mail: State Supervisor, Attention: 5-Year Review, U.S. Fish and Wildlife Service, Idaho Fish and Wildlife Office, 1387 S. Vinnell Way, Suite 368, Boise, ID 83709; or

➢ Email: ifwo@fws.gov.

• Any of the 122 species occurring in Hawaii, Guam, and/or the Commonwealth of the Northern Mariana Islands:

➢ U.S. mail: Field Supervisor, Attention: 5-Year Review, U.S. Fish and Wildlife Service, Pacific Islands Fish and Wildlife Office, 300 Ala Moana Blvd., Room 3-122, Honolulu, HI 96850; or

➢ Email: pifwo_admin@fws.gov.

FOR FURTHER INFORMATION CONTACT: For general information, please contact Grant Canterbury at 503-231-6151. Individuals in the United States who are deaf, deafblind, hard of hearing, or have a speech disability may dial 711 (TTY, TDD, or TeleBraille) to access telecommunications relay services. Individuals outside the United States should use the relay services offered within their country to make international calls to the point-of-contact in the United States.

For information about the following specific species, contact the following people:

• Columbia Basin pygmy rabbit: Rose Agbalog, Washington Fish and Wildlife Office, 564-200-2124; WFWO_LR@fws.gov.

• Any of the seven species occurring in Oregon: Jennifer Siani, Oregon Fish and Wildlife Office, 503-231-6179; fw1ofwo@fws.gov.

• White sturgeon, Banbury Springs limpet, and Bliss Rapids snail: Greg Burak, Idaho Fish and Wildlife Office, 208-378-5243; ifwo@fws.gov.

• Any of the 122 species occurring in Hawaii, Guam, and/or the Commonwealth of the Northern Mariana Islands: Megan Laut, Pacific Islands Fish and Wildlife Office, 808-792-9400, pifwo_admin@fws.gov.

SUPPLEMENTARY INFORMATION:

Why do we conduct 5-year status reviews?

Under the Endangered Species Act of 1973, as amended (Act; 16 U.S.C. 1531, et seq.), we maintain lists of endangered and threatened wildlife and plant species (referred to as the List) in the Code of Federal Regulations (CFR) at 50 CFR 17.11 (for wildlife) and 17.12 (for plants). Section 4(c)(2) of the Act requires us to review each listed species' status at least once every 5 years. For additional information about 5-year status reviews, refer to our factsheet at https://www.fws.gov/project/five-year-status-reviews.

What information do we consider in our review?

A 5-year status review considers all new information available at the time of the review. In conducting these reviews, we consider the best scientific and commercial data that have become available since the listing determination or most recent status reviews, such as:

A. Species biology, including but not limited to population trends, distribution, abundance, demographics, and genetics;

B. Habitat conditions, including but not limited to amount, distribution, and suitability;

C. Conservation measures that have been implemented that benefit the species;

D. Threat status and trends in relation to the five listing factors (as defined in section 4(a)(1) of the Act); and

E. Other new information, data, or corrections, including but not limited to taxonomic or nomenclatural changes, identification of erroneous information contained in the List, and improved analytical methods.

Any new information will be considered during the 5-year status review and will also be useful in evaluating the ongoing recovery programs for these species.

Which species are under review?

This notice announces our active review of 133 species, including 4 mammals, 13 birds, 3 fishes, 2 snails, 4 insects, 2 crustaceans, and 105 plants, as listed in the table below.

Common name | Scientific name | Status | Known range of species occurrence | Final listing rule and publication date
ANIMALS
Mammals:
Columbia Basin pygmy rabbit [Columbia Basin DPS] | Brachylagus idahoensis | Endangered | Washington | 68 FR 10388, 3/5/2003.
Pacific sheath-tailed bat | Emballonura semicaudata rotensis | Endangered | Guam, Commonwealth of the Northern Mariana Islands | 80 FR 59423, 10/1/2015.
Hawaiian hoary bat | Lasiurus cinereus semotus | Endangered | Hawaii | 35 FR 16047, 10/13/1970.
Mariana fruit bat (=fanihi, Mariana flying fox) | Pteropus mariannus mariannus | Threatened | Guam, Commonwealth of the Northern Mariana Islands | 49 FR 33881, 8/27/1984; 70 FR 1190, 1/6/2005.
Birds:
Nightingale reed warbler (old world warbler) | Acrocephalus luscinia | Endangered | Guam, Commonwealth of the Northern Mariana Islands | 35 FR 8491, 6/2/1970; 35 FR 18319, 12/2/1970.
Mariana gray swiftlet | Aerodramus vanikorensis bartschi | Endangered | Guam, Commonwealth of the Northern Mariana Islands | 49 FR 33881, 8/27/1984.
Hawaiian crow (`alala) | Corvus hawaiiensis | Endangered | Hawaii | 32 FR 4001, 3/11/1967.
Mariana crow (=aga) | Corvus kubaryi | Endangered | Guam, Commonwealth of the Northern Mariana Islands | 49 FR 33881, 8/27/1984.
Mariana common moorhen | Gallinula chloropus guami | Endangered | Guam, Commonwealth of the Northern Mariana Islands | 49 FR 33881, 8/27/1984.
Guam Micronesian kingfisher (=Guam kingfisher, sihek) | Halcyon cinnamomina cinnamomina [=Todiramphus cinnamominus] | Endangered | Guam | 49 FR 33881, 8/27/1984; 69 FR 62943, 10/28/2004.
`Akiapola`au | Hemignathus wilsoni | Endangered | Hawaii | 32 FR 4001, 3/11/1967.
Palila (honeycreeper) | Loxioides bailleui | Endangered | Hawaii | 32 FR 4001, 3/11/1967
Hawaii `ākepa | Loxops coccineus | Endangered | Hawaii | 35 FR 16047, 10/13/1970.
Micronesian megapode | Megapodius laperouse | Endangered | Guam, Commonwealth of the Northern Mariana Islands, Palau | 35 FR 8491, 6/2/1970.
Hawaii creeper | Oreomystis mana | Endangered | Hawaii | 40 FR 44149, 9/25/1975.
Guam rail | Rallus owstoni | Endangered | Guam | 49 FR 14354, 4/11/1984; 49 FR 33881, 8/27/1984; 54 FR 43966, 10/30/1989.
Rota bridled white-eye | Zosterops rotensis | Endangered | Commonwealth of the Northern Mariana Islands | 69 FR 3022, 1/22/2004.
Fishes:
White sturgeon [Kootenai River DPS] | Acipenser transmontanus | Endangered | Idaho, Montana, Canada (British Columbia) | 59 FR 45989, 9/6/1994.
Warner sucker | Catostomus warnerensis | Threatened | California, Nevada, Oregon | 50 FR 39117, 9/27/1985.
Hutton tui chub | Gila bicolor ssp. | Threatened | Oregon | 50 FR 12302, 3/28/1985.
Snails:
Bliss Rapids snail | Taylorconcha serpenticola | Threatened | Idaho | 57 FR 59244, 12/14/1992.
Banbury Springs limpet | Lanx sp. | Endangered | Idaho | 57 FR 59244, 12/14/1992.
Insects:
Hawaiian picture-wing fly | Drosophila digressa | Endangered | Hawaii | 78 FR 64637, 10/29/2013.
Hawaiian picture-wing fly | Drosophila heteroneura | Endangered | Hawaii | 71 FR 26835, 5/9/2006.
Hawaiian picture-wing fly | Drosophila mulli | Threatened | Hawaii | 71 FR 26835, 5/9/2006.
Hawaiian picture-wing fly | Drosophila ochrobasis | Endangered | Hawaii | 71 FR 26835, 5/9/2006.
Crustaceans:
Anchialine pool Shrimp | Procaris hawaiana | Endangered | Hawaii | 81 FR 67786, 9/30/2016.
Anchialine pool shrimp | Vetericaris chaceorum | Endangered | Hawaii | 78 FR 64637, 10/29/2013.
PLANTS
Flowering Plants:
Liliwai | Acaena exigua | Endangered | Hawaii | 57 FR 20772, 5/15/1992.
No common name | Achyranthes mutica | Endangered | Hawaii | 61 FR 53108, 10/10/1996.
Mauna Loa silversword | Argyroxiphium kauense | Endangered | Hawaii | 58 FR 18029, 4/7/1993.
`Ahinahina | Argyroxiphium sandwicense ssp. sandwicense | Endangered | Hawaii | 51 FR 9814, 3/1/1986.
Ko`oko`olau | Bidens campylotheca ssp. pentamera | Endangered | Hawaii | 78 FR 32013, 5/28/2013.
Ko`oko`olau | Bidens campylotheca ssp. waihoiensis | Endangered | Hawaii | 78 FR 32013, 5/28/2013.
Ko`oko`olau | Bidens conjuncta | Endangered | Hawaii | 78 FR 32013, 5/28/2013.
Ko`oko`olau | Bidens hillebrandiana ssp. hillebrandiana | Endangered | Hawaii | 78 FR 32013, 5/28/2013.
Ko`oko`olau | Bidens micrantha ssp. ctenophylla | Endangered | Hawaii | 78 FR 64637, 10/29/2013.
`Oha wai | Clermontia drepanomorpha | Endangered | Hawaii | 61 FR 53137, 10/10/1996.
`Oha wai | Clermontia lindseyana | Endangered | Hawaii | 59 FR 10305, 3/4/1994.
`Oha wai | Clermontia peleana | Endangered | Hawaii | 59 FR 10305, 3/4/1994.
`Oha wai | Clermontia pyrularia | Endangered | Hawaii | 59 FR 10305, 3/4/1994.
Haha | Cyanea asplenifolia | Endangered | Hawaii | 78 FR 32013, 5/28/2013.
Haha | Cyanea copelandii ssp. copelandii | Endangered | Hawaii | 59 FR 10305, 3/4/1994.
Haha | Cyanea duvalliorum | Endangered | Hawaii | 78 FR 32013, 5/28/2013.
Haha | Cyanea hamatiflora ssp. carlsonii | Endangered | Hawaii | 59 FR 10305, 3/4/1994.
Haha nui | Cyanea horrida | Endangered | Hawaii | 78 FR 32013, 5/28/2013.
Haha | Cyanea kunthiana | Endangered | Hawaii | 78 FR 32013, 5/28/2013.
Haha | Cyanea maritae | Endangered | Hawaii | 78 FR 32013, 5/28/2013.
Haha | Cyanea marksii | Endangered | Hawaii | 78 FR 64637, 10/29/2013.
Haha | Cyanea mauiensis | Endangered | Hawaii | 78 FR 32013, 5/28/2013.
Haha | Cyanea munroi | Endangered | Hawaii | 78 FR 32013, 5/28/2013.
Haha | Cyanea obtusa | Endangered | Hawaii | 78 FR 32013, 5/28/2013.
`Aku`aku | Cyanea platyphylla | Endangered | Hawaii | 61 FR 53137, 10/10/1996.
Haha | Cyanea profuga | Endangered | Hawaii | 78 FR 32013, 5/28/2013.
Haha | Cyanea shipmanii | Endangered | Hawaii | 59 FR 10305, 3/4/1994.
Popolo | Cyanea solanacea | Endangered | Hawaii | 78 FR 32013, 5/28/2013.
Haha | Cyanea stictophylla | Endangered | Hawaii | 59 FR 10305, 3/4/1994.
`Aku | Cyanea tritomantha | Endangered | Hawaii | 78 FR 64637, 10/29/2013.
No common name | Cyperus fauriei | Endangered | Hawaii | 59 FR 10305, 3/4/1994.
Ha`iwale | Cyrtandra ferripilosa | Endangered | Hawaii | 78 FR 32013, 5/28/2013.
Ha`iwale | Cyrtandra filipes | Endangered | Hawaii | 78 FR 32013, 5/28/2013.
Ha`iwale | Cyrtandra giffardii | Endangered | Hawaii | 59 FR 10305, 3/4/1994.
Ha`iwale | Cyrtandra nanawaleensis | Endangered | Hawaii | 78 FR 64637, 10/29/2013.
Ha`iwale | Cyrtandra oxybapha | Endangered | Hawaii | 78 FR 32013, 5/28/2013.
Ha`iwale | Cyrtandra tintinnabula | Endangered | Hawaii | 59 FR 10305, 3/4/1994.
Ha`iwale | Cyrtandra wagneri | Endangered | Hawaii | 78 FR 64637, 10/29/2013.
Willamette daisy | Erigeron decumbens | Endangered | Oregon | 65 FR 3875, 1/25/2000.
No common name | Festuca molokaiensis | Endangered | Hawaii | 78 FR 32013, 5/28/2013.
Nohoanu | Geranium hanaense | Endangered | Hawaii | 78 FR 32013, 5/28/2013.
Nohoanu | Geranium hillebrandii | Endangered | Hawaii | 78 FR 32013, 5/28/2013.
Honohono | Haplostachys haplostachya | Endangered | Hawaii | 44 FR 62468, 10/30/1979.
Hau kuahiwi | Hibiscadelphus giffardianus | Endangered | Hawaii | 61 FR 53137, 10/10/1996.
Hau kuahiwi | Hibiscadelphus hualalaiensis | Endangered | Hawaii | 61 FR 53137, 10/10/1996.
Aupaka | Isodendrion hosakae | Endangered | Hawaii | 56 FR 1454, 1/14/1991.
Kio`ele | Kadua coriacea | Endangered | Hawaii | 57 FR 20772, 5/15/1992.
Koki`o | Kokia drynarioides | Endangered | Hawaii | 49 FR 47397, 12/4/1984.
Large-flowered woolly meadowfoam | Limnanthes pumila ssp. grandiflora | Endangered | Oregon | 67 FR 68004, 11/7/2002.
Nehe | Lipochaeta venosa | Endangered | Hawaii | 44 FR 62468, 10/30/1979.
Cook's lomatium | Lomatium cookii | Endangered | Oregon | 67 FR 68004, 11/7/2002.
Kincaid's lupine | Lupinus sulphureus ssp. kincaidii | Threatened | Oregon, Washington | 65 FR 3875, 1/25/2000.
No common name | Maesa walkeri | Threatened | Guam, Commonwealth of the Northern Mariana Islands | 80 FR 59423, 10/1/2015.
Alani | Melicope zahlbruckneri | Endangered | Hawaii | 61 FR 53137, 10/10/1996.
Sea bean | Mucuna sloanei var. persericea | Endangered | Hawaii | 78 FR 32013, 5/28/2013.
Kolea | Myrsine vaccinioides | Endangered | Hawaii | 78 FR 32013, 5/28/2013.
No common name | Neraudia ovata | Endangered | Hawaii | 61 FR 53137, 10/10/1996.
No common name | Nervilia jacksoniae | Threatened | Guam, Commonwealth of the Northern Mariana Islands | 80 FR 59423, 10/1/2015.
No common name | Nesogenes rotensis | Endangered | Commonwealth of the Northern Mariana Islands | 69 FR 18499; 04/08/2004.
`Aiea | Nothocestrum breviflorum | Endangered | Hawaii | 59 FR 10305, 3/4/1994.
No common name | Osmoxylon mariannense | Endangered | Commonwealth of the Northern Mariana Islands | 69 FR 18499; 04/08/2004.
`Ala `ala wai nui | Peperomia subpetiolata | Endangered | Hawaii | 78 FR 32013, 5/28/2013.
No common name | Phyllostegia bracteata | Endangered | Hawaii | 78 FR 32013, 5/28/2013.
No common name | Phyllostegia floribunda | Endangered | Hawaii | 78 FR 64637, 10/29/2013.
No common name | Phyllostegia haliakalae | Endangered | Hawaii | 78 FR 32013, 5/28/2013.
No common name | Phyllostegia helleri | Endangered | Hawaii | 81 FR 67786, 9/30/2016.
No common name | Phyllostegia pilosa | Endangered | Hawaii | 78 FR 32013, 5/28/2013.
Kiponapona | Phyllostegia racemosa | Endangered | Hawaii | 61 FR 53137, 10/10/1996.
No common name | Phyllostegia stachyoides | Endangered | Hawaii | 81 FR 67786, 9/30/2016.
No common name | Phyllostegia velutina | Endangered | Hawaii | 61 FR 53137, 10/10/1996.
No common name | Phyllostegia warshaueri | Endangered | Hawaii | 61 FR 53137, 10/10/1996.
Hoawa | Pittosporum halophilum | Endangered | Hawaii | 78 FR 32013, 5/28/2013.
Hoawa | Pittosporum hawaiiense | Endangered | Hawaii | 78 FR 64637, 10/29/2013.
Kuahiwi laukahi | Plantago hawaiensis | Endangered | Hawaii | 59 FR 10305, 3/4/1994.
No common name | Platydesma remyi | Endangered | Hawaii | 78 FR 64637, 10/29/2013.
Hala pepe | Pleomele fernaldii | Endangered | Hawaii | 78 FR 32013, 5/28/2013.
Hala pepe | Pleomele hawaiiensis | Endangered | Hawaii | 61 FR 53137, 10/10/1996.
Po`e | Portulaca sclerocarpa | Endangered | Hawaii | 59 FR 10305, 3/4/1994.
Loulu | Pritchardia aylmer-robinsonii | Endangered | Hawaii | 61 FR 41020, 8/7/1996.
Loulu | Pritchardia lanigera | Endangered | Hawaii | 78 FR 64637, 10/29/2013.
Loulu | Pritchardia maideniana | Endangered | Hawaii | 59 FR 10305, 3/4/1994.
Loulu | Pritchardia schattaueri | Endangered | Hawaii | 61 FR 53137, 10/10/1996.
No common name | Schiedea diffusa ssp. macraei | Endangered | Hawaii | 78 FR 64637, 10/29/2013.
Ma`oli`oli | Schiedea hawaiiensis | Endangered | Hawaii | 78 FR 64637, 10/29/2013.
No common name | Schiedea jacobii | Endangered | Hawaii | 78 FR 32013, 5/28/2013.
No common name | Schiedea laui | Endangered | Hawaii | 78 FR 32013, 5/28/2013.
No common name | Schiedea salicaria | Endangered | Hawaii | 78 FR 32013, 5/28/2013.
Hayun lagu | Serianthes nelsonii | Endangered | Guam, Commonwealth of the Northern Mariana Islands | 52 FR 4907, 2/18/1987; 52 FR 6651, 5/4/1987.
`Anunu | Sicyos albus | Endangered | Hawaii | 61 FR 53137, 10/10/1996.
No common name | Silene hawaiiensis | Endangered | Hawaii | 59 FR 10305, 3/4/1994.
Popolo ku mai | Solanum incompletum | Endangered | Hawaii | 59 FR 56333, 10/10/1994.
No common name | Stenogyne angustifolia var. angustifolia | Endangered | Hawaii | 44 FR 62468, 10/30/1979.
No common name | Stenogyne cranwelliae | Endangered | Hawaii | 78 FR 64637, 10/29/2013.
No common name | Stenogyne kaalae ssp. sherffii | Endangered | Hawaii | 81 FR 67786, 9/30/2016.
No common name | Stenogyne kauaulaensis | Endangered | Hawaii | 78 FR 32013, 5/28/2013.
Malheur wire-lettuce | Stephanomeria malheurensis | Endangered | Oregon | 47 FR 50881, 11/10/1982.
No common name | Tetramolopium arenarium | Endangered | Hawaii | 59 FR 10305, 3/4/1994.
Hawaiian vetch | Vicia menziesii | Endangered | Hawaii | 43 FR 17910, 4/26/1978.
No common name | Vigna o-wahuensis | Endangered | Hawaii | 59 FR 56333, 11/10/1994.
No common name | Wikstroemia skottsbergiana | Endangered | Hawaii | 81 FR 67786, 9/30/2016.
No common name | Wikstroemia villosa | Endangered | Hawaii | 78 FR 32013, 5/28/2013.
A`e | Zanthoxylum dipetalum var. tomentosum | Endangered | Hawaii | 61 FR 53137, 10/10/1996.
Ferns and Allies:
No common name | Asplenium peruvianum var. insulare | Endangered | Hawaii | 59 FR 49025, 9/26/1994.
No common name | Diplazium molokaiense | Endangered | Hawaii | 59 FR 49025, 9/26/1994.
Wawae`iole | Huperzia mannii | Endangered | Hawaii | 57 FR 20772, 5/15/1992.

Request for New Information

To ensure that a 5-year status review is complete and based on the best available scientific and commercial information, we request new information from all sources. See What Information Do We Consider in Our Review? for specific criteria. If you submit information, please support it with documentation such as maps, references, methods used to gather and analyze the data, and/or copies of any pertinent publications, reports, or letters by knowledgeable sources.

If you wish to provide information for any species listed in the table, please submit your comments and materials to the appropriate contact in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Completed and Active Reviews

A table including hyperlinks to the most recently completed 5-year status review for each listed species, as well as notices of 5-year status reviews that are currently in progress, is available at https://ecos.fws.gov/ecp/report/species-five-year-review.

Authority

This document is published under the authority of the Endangered Species Act of 1973, as amended (16 U.S.C. 1531 et seq.).

Hugh Morrison,
Regional Director, U.S. Fish and Wildlife Service.

[FR Doc. 2023-05928 Filed 3-22-23; 8:45 am]

BILLING CODE 4333-15-P